DEPARTMENT OF THE INTERIOR

Fish and Wildlife Service

[FWS-R6-ES-2015-N232; FXES11130600000-167-FF06E00000]

Endangered and Threatened Wildlife and Plants; Initiation of 5-Year Status Reviews of 21 Species in the Mountain-Prairie Region

AGENCY: Fish and Wildlife Service, Interior.

ACTION: Notice of initiation of reviews; request for information.

SUMMARY: We, the U.S. Fish and Wildlife Service, are initiating 5-year status reviews under the Endangered Species Act of 1973, as amended (Act), of 8 animal and 13 plant species. A 5-year status review is based on the best scientific and commercial data available at the time of the review; therefore, we are requesting submission of any new information on these species that has become available since the last review of the species.

DATES: To ensure consideration in our reviews, we are requesting submission of new information no later than July 26, 2016. However, we will continue to accept new information about any listed species at any time.

FOR FURTHER INFORMATION CONTACT: For information on a particular species, contact the appropriate person or office listed in the table in the SUPPLEMENTARY INFORMATION section. Individuals who are hearing impaired or speech impaired may call the Federal Relay Service at 800-877-8339 for TTY assistance.

SUPPLEMENTARY INFORMATION:

Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the 21 species listed in the table below.

Common name | Scientific name | Listing status | Historical range | Final listing rule (Federal Register citation and publication date) | Contact person, phone, email | Contact person's U.S. mail address
ANIMALS
Bonytail chub | Gila elegans | Endangered | Arizona, Colorado, Nevada, Utah, U.S.A | 45 FR 27710; 04/23/1980 | Tom Chart, Upper Colorado River Endangered Fish Recovery Program, Director, 303-236-9885; tom_chart@fws.gov | Upper Colorado River Endangered Fish Recovery Program, 44 Union Blvd., Ste. 120, Lakewood, CO 80228.
Colorado pikeminnow | Ptychocheilus lucius | Endangered | Arizona, California, Colorado, New Mexico, Utah, U.S.A | 32 FR 4001; 03/11/1967 | Tom Chart, Upper Colorado River Endangered Fish Recovery Program, Director, 303-236-9885; tom_chart@fws.gov | Upper Colorado River Endangered Fish Recovery Program, 44 Union Blvd., Ste. 120, Lakewood, CO 80228.
Greenback cutthroat trout | Oncorhynchus clarki stomias | Threatened | Colorado, Utah, U.S.A | 32 FR 4001; 03/11/1967 | Drue DeBerry, Acting Project Leader, 303-236-4264; drue_deberry@fws.gov | Ecological Services, Colorado Field Office, P.O. Box 25486-DFC, Denver, CO 80225.
Humpback chub | Gila cypha | Endangered | Arizona, Colorado, Utah, U.S.A | 32 FR 4001; 03/11/1967 | Tom Chart, Upper Colorado River Endangered Fish Recovery Program, Director, 303-236-9885; tom_chart@fws.gov | Upper Colorado River Endangered Fish Recovery Program, 44 Union Blvd., Ste. 120, Lakewood, CO 80228.
Kendall Warm Springs dace | Rhinichthys osculus thermalis | Endangered | Wyoming, U.S.A | 35 FR 16047; 10/13/1970 | Tyler Abbott, Deputy Project Leader, 307-772-2374 | Ecological Services, Wyoming Field Office, 5353 Yellowstone Road, #308A, Cheyenne, WY 82009.
Razorback sucker | Xyrauchen texanus | Endangered | Arizona, Colorado, Nevada, New Mexico, Utah, U.S.A | 56 FR 54957; 10/23/1991 | Tom Chart, Upper Colorado River Endangered Fish Recovery Program, Director, 303-236-9885; tom_chart@fws.gov | Upper Colorado River Endangered Fish Recovery Program, 44 Union Blvd., Ste. 120, Lakewood, CO 80228.
Topeka shiner | Notropis Topeka (=tristis) | Endangered | Iowa, Kansas, Minnesota, Missouri, Nebraska, South Dakota, U.S.A | 63 FR 69008; 12/15/1998 | Jason Luginbill, Project Leader, 785-539-3474; jason_luginbill@fws.gov | Ecological Services, Kansas Field Office, 2609 Anderson Ave., Manhattan, KS 66502.
Uncompahgre fritillary butterfly | Boloria acrocnema | Threatened | Colorado, U.S.A | 56 FR 28712; 6/24/1991 | Ann Timberman, Western Colorado Field Supervisor, 970-628-7181; ann_timberman@fws.gov | Ecological Services, Western Colorado Field Office, 445 W. Gunnison Ave., #240, Grand Junction, CO 81501-5711.

Scientific name | Common name | Listing status | Historical range | Final listing rule (Federal Register citation and publication date) | Contact person, phone, email | Contact person's U.S. mail address
PLANTS
Astragalus holmgreniorum | Holmgren milk-vetch | Endangered | Arizona, Utah, U.S.A | 66 FR 49560; 09/28/2001 | Larry Crist, Project Leader, 801-975-3330; larry_crist@fws.gov | Ecological Services, Utah Field Office, 2369 W. Orton Circle, #50, West Valley City, UT 84119.
Astragalus ampullarioides | Shivwits milk-vetch | Endangered | Utah, U.S.A | 66 FR 49560; 09/28/2001 | Larry Crist, Project Leader, 801-975-3330; larry_crist@fws.gov | Ecological Services, Utah Field Office, 2369 W. Orton Circle, #50, West Valley City, UT 84119.
Astragalus osterhoutii | Osterhout milkvetch | Endangered | Colorado, U.S.A | 54 FR 29658; 7/13/1989 | Ann Timberman, Western Colorado Field Supervisor, 970-628-7181; ann_timberman@fws.gov | Ecological Services, Western Colorado Office, 445 W. Gunnison Ave., #240, Grand Junction, CO 81501-5711.
Eutrema penlandii | Penland alpine fen mustard | Threatened | Colorado, U.S.A | 58 FR 40539; 7/28/1993 | Ann Timberman, Western Colorado Field Supervisor, 970-628-7181; ann_timberman@fws.gov | Ecological Services, Western Colorado Office, 445 W. Gunnison Ave., #240, Grand Junction, CO 81501-5711.
Ipomopsis polyantha | Pagosa skyrocket | Endangered | Colorado, U.S.A | 76 FR 45054; 07/27/2011 | Ann Timberman, Western Colorado Field Supervisor, 970-628-7181; ann_timberman@fws.gov | Ecological Services, Western Colorado Office, 445 W. Gunnison Ave., #240, Grand Junction, CO 81501-5711.
Penstemon penlandii | Penland beardtongue | Endangered | Colorado, U.S.A | 54 FR 29658; 7/13/1989 | Ann Timberman, Western Colorado Field Supervisor, 970-628-7181; ann_timberman@fws.gov | Ecological Services, Western Colorado Office, 445 W. Gunnison Ave., #240, Grand Junction, CO 81501-5711.
Physaria congesta (Lesquerella congesta) | Dudley Bluffs bladderpod | Threatened | Colorado, U.S.A | 55 FR 4152; 02/06/1990 | Ann Timberman, Western CO Field Supervisor, 970-628-7181; ann_timberman@fws.gov | Ecological Services, Western CO Field Office, 445 W. Gunnison Ave., #240, Grand Junction, CO 81501-5711.
Physaria obcordata | Dudley Bluffs twinpod | Threatened | Colorado, U.S.A | 55 FR 4152; 02/06/1990 | Ann Timberman, Western CO Field Supervisor, 970-628-7181; ann_timberman@fws.gov | Ecological Services, Western Colorado Office, 445 W. Gunnison Ave., #240, Grand Junction, CO 81501-5711.
Schoenocrambe suffrutenscens | Shrubby reed-mustard | Endangered | Utah, U.S.A | 52 FR 37416; 10/06/1987 | Larry Crist, Project Leader, 801-975-3330; larry_crist@fws.gov | Ecological Services, Utah Field Office, 2369 W. Orton Circle, #50, West Valley City, UT 84119.
Schoenocrambe argillacea | Clay reed-mustard | Endangered | Utah, U.S.A | 52 FR 37416; 10/06/1987 | Larry Crist, Project Leader, 801-975-3330; larry_crist@fws.gov | Ecological Services, Utah Field Office, 2369 W. Orton Circle, #50, West Valley City, UT 84119.
Sclerocactus brevispinus | Pariette cactus | Threatened | Utah, U.S.A | 74 FR 47117; 09/15/2009 | Larry Crist, Project Leader, 801-975-3330; larry_crist@fws.gov | Ecological Services, Utah Field Office, 2369 W. Orton Circle, #50, West Valley City, UT 84119.
Sclerocactus wetlandicus | Uinta Basin hookless cactus | Threatened | Utah, U.S.A | 74 FR 47112; 09/15/2009 | Larry Crist, Project Leader, 801-975-3330; larry_crist@fws.gov | Ecological Services, Utah Field Office, 2369 W. Orton Circle, #50, West Valley City, UT 84119.
Sclerocactus wrightiae | Wright fishhook cactus | Endangered | Utah, U.S.A | 44 FR 58866; 10/11/1979 | Larry Crist, Project Leader, 801-975-3330; larry_crist@fws.gov | Ecological Services, Utah Field Office, 2369 W. Orton Circle, #50, West Valley City, UT 84119.

Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Submissions

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Mountain-Prairie Region of the U.S. Fish and Wildlife Service has lead responsibility is available at http://www.fws.gov/endangered/.

Authority

This document is published under the authority of the Endangered Species Act of 1973, as amended (16 U.S.C. 1531 et seq.).

Dated: April 19, 2016.
Matt Hogan,
Deputy Regional Director, Mountain-Prairie Region, U.S. Fish and Wildlife Service.

[FR Doc. 2016-12585 Filed 5-26-16; 8:45 am]

BILLING CODE 4310-55-P